DEPARTMENT OF HEALTH AND HUMAN SERVICES

Centers for Disease Control and Prevention

Prospective Grant of Exclusive License: Dengue Virus Vaccine

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, limited field of use, exclusive license to practice the inventions embodied in the patent application referred to below to Inviragen, LLC, having a place of business in Fort Collins, Colorado. The patent rights in these inventions have been assigned to the government of the United States of America.

SUPPLEMENTARY INFORMATION: In accordance with 35 U.S.C. 209(e) and 37 CFR 404.7(a)(1)(i), CDC is providing public notice of its intention to grant an exclusive license. CDC will accept written comments concerning this notice for 30 days after publication of this notice. Applications for a license filed in response to this notice will be treated as objections to the grant of the contemplated license. Comments and objections submitted in response to this notice will not be made available for public inspection, and, to the extent permitted by law, will not be released under the Freedom of Information Act, 5 U.S.C. 552. A signed Confidential Disclosure Agreement (available under Forms @ http://www.cdc.gov/tto) will be required to receive a copy of any pending patent application.

The patent application(s) to be licensed are:

PCT/US01/05142 entitled “Chimeric Dengue Viruses as Candidate Vaccines for Humans,” filed February 16, 2001.

Status: Received notice of allowance.

Issue Date: N/A

The prospective exclusive license will be royalty-bearing and will comply with the terms and conditions of 35 U.S.C. 209 and 37 CFR 404.7.

Technology:

This technology provides a new pathway for a dengue virus vaccine.

ADDRESSES: Requests for a copy of this patent application, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615.

Dated: March 14, 2006.
James D. Seligman,
Chief Information Officer, Centers for Disease Control and Prevention.

[FR Doc. E6-4048 Filed 3-20-06; 8:45 am]

BILLING CODE 4163-18-P